DEPARTMENT OF TRANSPORTATION

Research and Special Programs Administration

49 CFR Parts 107, 171, 173, 177, and 180

[Docket No. RSPA-01-10373 (HM-220D)]

RIN 2137-AD58

Hazardous Materials: Requirements for Maintenance, Requalification, Repair and Use of DOT Specification Cylinders; Correction of Compliance Dates

AGENCY: Research and Special Programs Administration (RSPA), DOT.

ACTION: Correction to final rule compliance dates.

SUMMARY: This document corrects several compliance dates in a final rule published May 8, 2003 (68 FR 24653) that made revisions to certain cylinder requirements. The compliance date for the final rule is corrected to permit immediate voluntary compliance. The delayed compliance dates for two other requirements in the final rule are corrected.

DATES: Effective Date: This rule is effective June 2, 2003. Compliance Date: Voluntary compliance is authorized immediately. Delayed compliance dates for certain regulatory provisions are set forth in the regulatory text.

FOR FURTHER INFORMATION CONTACT: Sandra Webb, (202) 366-8553, Office of Hazardous Materials Standards, Research and Special Programs Administration.

SUPPLEMENTARY INFORMATION:

Background

On May 8, 2003, the Research and Special Programs Administration (we, us) published a final rule that responds to appeals submitted by persons affected by an August 8, 2002 final rule. The August 8, 2002 final rule amended certain requirements in the Hazardous Materials Regulations (49 CFR parts 171-180) applicable to the maintenance, requalification, repair, and use of DOT specification cylinders. To allow us additional time to review the issues raised in the appeals, we published a final rule on September 30, 2002 (67 FR 51626), extending the compliance dates for certain provisions to May 30, 2003.

Need for Correction

The May 8, 2003 final rule further delays compliance with certain provisions in the August 8, 2002 final rule beyond May 30, 2003. However, the effective date of the May 8, 2003 final rule is June 9, 2003. This leaves a 9-day gap in which companies may be in technical non-compliance with certain provisions.

In addition, we are correcting an error in amendatory item 14, paragraph b of the May 8, 2003 final rule. In that item we indicated that we were revising paragraph (h)(2)(iv) and the beginning of the first sentence in paragraph (h)(3) introductory text of § 173.301. However, the revision to paragraph (h)(3) introductory text incorrectly appeared as paragraph (h)(2) introductory text.

Correction

In rule document 03-11334, on page 24653 in the issue of Thursday, May 8, 2003, make the following correction:

On page 24653 in the third column, in the DATES section, the Compliance Date is corrected to read as set forth above in the DATES section of this document.

PART 173—[CORRECTED]

On page 24661, in the first column, the beginning of the first sentences in paragraphs (h)(2) introductory text and (h)(3) introductory text are revised to read as follows:

§ 173.301 General requirements for shipment of compressed gases in cylinders and spherical pressure vessels.

* * * * *

(h) * * *

(2) For cylinders manufactured before October 1, 2007, * * *

* * * * *

(3) For cylinders manufactured on or after October 1, 2007, * * *

* * * * *

Issued in Washington, DC on May 27, 2003 under authority delegated in 49 CFR part 1.
Samuel G. Bonasso,
Acting Administrator, Research and Special Programs Administration.

[FR Doc. 03-13682 Filed 5-30-03; 8:45 am]

BILLING CODE 4910-60-P